DEPARTMENT OF COMMERCE

National Oceanic and Atmospheric Administration

[I.D. 052505C]

Marine Mammals; File No. 909-1726-00

AGENCY: National Marine Fisheries Service (NMFS), National Oceanic and Atmospheric Administration (NOAA), Commerce.

ACTION: Issuance of permit.

SUMMARY: Notice is hereby given that Dan Engelhaupt, P.O. Box 197, Picton, New Zealand has been issued a permit to conduct scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371;

Southeast Region, NMFS, 9721 Executive Center Drive North, St. Petersburg, FL 33702-2432; phone (727)570-5301; fax (727)570-5320.

>

FOR FURTHER INFORMATION CONTACT: Carrie Hubard or Ruth Johnson, (301)713-2289.

SUPPLEMENTARY INFORMATION: On January 21, 2004, notice was published in the Federal Register (69 FR 2902) that a request for a scientific research permit to take marine mammals had been submitted by the above-named individual. The requested permit has been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Permit No. 909-1726-00 authorizes the Holder to biopsy sample and collect naturally sloughed skin from sperm whales (Physeter macrocephalus) and a variety of other non-listed cetacean species in the Gulf of Mexico, North Atlantic Ocean, Caribbean Sea, and Mediterranean Sea. The goal is the continuation of a previous four-year study that analyzes population genetic structure between the Gulf of Mexico, Caribbean Sea, North Atlantic Ocean, and Mediterranean Sea and provides a comparison of these putative geographic populations with those of other geographic areas. Samples would be obtained via biopsy dart, opportunistically collected sloughed skin, as well using extant samples of stored material obtained from NMFS Southeast and Northeast regional stranding networks. Samples will be imported/exported to research facilities in the United Kingdom, New Zealand, Canada, and the United States for genetic sample processing.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA was based on a finding that such permit (1) was applied for in good faith, (2) will not operate to the disadvantage of the endangered species which is the subject of this permit, and (3) is consistent with the purposes and policies set forth in section 2 of the ESA.

Dated: July 11, 2005.
Stephen L. Leathery,
Chief, Permits, Conservation and Education Division, Office of Protected Resources, National Marine Fisheries Service.

[FR Doc. 05-13990 Filed 7-14-05; 8:45 am]

BILLING CODE 3510-22-S